DEPARTMENT OF COMMERCE

National Oceanic and Atmospheric Administration

RIN 0648-XA416

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a Sardine Research Planning Workshop that is open to the public.

DATES: The meeting will be held Monday, May 23, 2011 through Tuesday, May 24, 2011. Business will begin each day at 8 a.m., and conclude each day at 5 p.m. or until business for the day is completed.

ADDRESSES: The workshop will be held at Best Western Inn by the Sea, 7830 Fay Avenue, La Jolla, CA 92037.

FOR FURTHER INFORMATION CONTACT: Kerry Griffin, Staff Officer; telephone: (503) 820-2280.

SUPPLEMENTARY INFORMATION: The objectives of the Workshop are to: (1) Develop a coordinated synoptic sardine survey plan designed to compare the results of abundance estimates developed from different survey methods; (2) Improve collaborative research opportunities and coordination between the sardine industry and NMFS; and (3) Develop a proposed survey budget, timeframe, Principal Investigators, and operational requirements.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Ms. Carolyn Porter at (503) 820-2280 at least 5 days prior to the meeting date.

Dated: May 3, 2011.
Tracey L. Thompson,
Acting Director, Office of Sustainable Fisheries, National Marine Fisheries Service.

[FR Doc. 2011-11104 Filed 5-5-11; 8:45 am]

BILLING CODE 3510-22-P